Proclamation 10851 of October 31, 2024

National Family Caregivers Month, 2024

By the President of the United States of America

A Proclamation

Family caregivers are the backbone of our Nation, making tremendous sacrifices to be there for the people who need and cherish them most. This month, we honor their selfless love and courage, and we recommit to getting them the support they deserve. They should know their country has their backs.

For far too long, the cost of care in this country has been too high. Today, millions of Americans are part of the so-called sandwich generation, caring for both young kids and aging parents at the same time. Too many families struggle to afford help, spending their own retirement savings to pay for the care of their loved ones or quitting their own jobs to stay home and provide it themselves. Most often, it is women who bear the brunt of care work. And the pay for professional care workers is far too low.

In the United States of America, no one should have to choose between caring for a parent who raised them, a child who depends on them, and a paycheck that they need. That is why I signed the American Rescue Plan, which made the biggest investment in child care ever. It delivered historic support to over 225,000 child care programs serving as many as 10 million children across the country, helping keep their doors open for millions of working families who rely on them. It expanded the Child Tax Credit, which helped cut the child poverty rate nearly in half. Overall, my Administration increased funding for child care by nearly 50 percent while helping States expand and strengthen programs that enable low-income families afford child care as well. We also required companies seeking significant Federal funding from our CHIPS and Science Act to submit a plan on how they will help employees access affordable child care.

We have finalized new rules that strengthen staffing standards in nursing homes to ensure residents can age with dignity. We have made sure that home care workers get a bigger share of Medicaid payments so more Americans can keep living in their own communities and homes. And we have worked to increase Medicare resources to promote equitable access to care and caregiver training.

But we have to do more to ease the load on America's 50 million unpaid family caregivers, who too often still shoulder the burden of care all alone. Through the American Rescue Plan, we devoted $145 million to the National Family Caregiver Support Program, which delivers counseling, training, and short-term relief to family caregivers and other informal care providers. Furthermore, my Administration released the first-ever National Strategy to Support Family Caregivers, which includes new initiatives that directly support family caregivers and strengthen existing programs. And I signed a historic Executive Order, representing the most comprehensive set of administrative actions ever to increase access to high-quality child care and long-term care and support for caregivers, including military and veteran caregivers. The Executive Order is working to make sure caregivers get the support they deserve while building the supply of high-quality care so families have options. My Administration is continuing to work toward lowering the cost of care across the country and providing stronger paid family and medical leave.

How we treat our young children, aging parents, and loved ones and how we value those who care for them are fundamental to who we are as a Nation. During National Family Caregivers Month, we pledge to get every family caregiver in this country the same kind of relief, respect, and support that they give so selflessly to others.

NOW, THEREFORE, I, JOSEPH R. BIDEN JR., President of the United States of America, by virtue of the authority vested in me by the Constitution and the laws of the United States, do hereby proclaim November 2024 as National Family Caregivers Month. I encourage all Americans to reach out to those who provide care for our Nation's family members, friends, and neighbors in need to recognize, honor, and thank them.

IN WITNESS WHEREOF, I have hereunto set my hand this thirty-first day of October, in the year of our Lord two thousand twenty-four, and of the Independence of the United States of America the two hundred and forty-ninth.

[FR Doc. 2024-25806

Filed 11-4-24; 8:45 am]

Billing code 3395-F4-P